DEPARTMENT OF COMMERCE

[Docket No. 150903817-5999-02]

Privacy Act of 1974, Amended System of Records

AGENCY: Bureau of Industry and Security, U.S. Department of Commerce.

ACTION: Notice of Proposed Amendment to Privacy Act System of Records: COMMERCE/ITA-1, Individuals Identified in Export Transactions.

SUMMARY: The Department of Commerce publishes this notice to announce the effective date of a Privacy Act System of Records notice entitled Notice of Proposed Amendment to COMMERCE/ITA-1, Individuals Identified in Export Transactions.

DATES: The system of records becomes effective on December 8, 2015.

ADDRESSES: For a copy of the system of records please mail requests to the: Privacy Officer, Bureau of Industry and Security, Department of Commerce, 1401 Constitution Avenue NW., Room 6622, Washington, DC 20230.

FOR FURTHER INFORMATION CONTACT: Chief Financial Officer and Director of Administration, Bureau of Industry and Security, Department of Commerce, 1401 Constitution Avenue NW., Room 6622, Washington, DC 20230.

SUPPLEMENTARY INFORMATION: On October 21, 2015 (80 FR 63737), the Department of Commerce published a notice in the Federal Register, entitled “Notice of Proposed Amendment to COMMERCE/ITA-1, Individuals Identified in Export Transactions,” requesting comments on proposed amendments to the system of records, which included renaming the system to “COMMERCE/BIS-1, Individuals Identified in Export Transactions and Other Matters Subject to BIS Jurisdiction.” The October 21, 2015, notice stated that the amended system of records will become effective on the date of publication of a subsequent notice, unless comments are received. No comments were received in response to the request for comments. Accordingly, by this notice, the Department of Commerce is adopting the proposed changes to the system as final without changes effective December 8, 2015.

Dated: December 2, 2015.
Michael J. Toland,
Department of Commerce, Freedom of Information and Privacy Act Officer.

[FR Doc. 2015-30860 Filed 12-7-15; 8:45 am]

BILLING CODE 3510-33-P